DEPARTMENT OF HEALTH AND HUMAN SERVICES

Administration for Children and Families

Proposed Information Collection Activity; Generic Clearance for the Comprehensive Child Welfare Information System (CCWIS) Technical Assistance and Review Process (Office of Management and Budget #: 0970-0568)

AGENCY: Children's Bureau, Administration for Children and Families, U.S. Department of Health and Human Services.

ACTION: Request for public comments.

SUMMARY: The Children's Bureau (CB), Administration for Children and Families (ACF), U.S. Department of Health and Human Services (HHS) is requesting a 3-year extension of the Generic Clearance for the Comprehensive Child Welfare Information System (CCWIS) Technical Assistance (TA) and Review Process, (OMB #0970-0568, expiration 4/30/2024) and all approved information collections under this generic. There are no changes requested to the terms of the umbrella generic or to the currently approved information collections.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The CCWIS Technical Assistance and Review information collection includes two components.

The CCWIS Assessment Review (CAR) Process.

TA tools for title IV-E agencies to self-assess their conformity to CCWIS project and design requirements at 45 CFR 1355.52-3; The CCWIS requirements at 45 CFR 1355.55 require the review, assessment, and inspection of the planning, design, development, installation, operation, and maintenance of each CCWIS project on a continuing basis. The Advance Planning Document (APD) regulations at 45 CFR 95.621 require periodic reviews of state and local agency methods and practices to ensure information systems, including CCWIS, are utilized for purposes consistent with proper and efficient administration.

This request is for an extension with no changes to the umbrella generic and all currently approved information collections, which can be found here: https://www.reginfo.gov/public/do/PRAICList?ref_nbr=202311-0970-010.

Respondents: Title IV-E agencies under the Social Security Act.

Annual Burden Estimates

Annual Burden—Currently Approved Information Collections
Instrument | Total number of respondents | Annual number of responses per respondent | Average burden hours per response | Annual burden hours
CCWIS Self-Assessment—Administration | 55 | 1 | 10 | 550
CCWIS Self-Assessment—Adoption | 55 | 1 | 10 | 550
CCWIS Self-Assessment—Case Management | 55 | 1 | 10 | 550
CCWIS Self-Assessment—Foster Care and Service Provider Management | 55 | 1 | 10 | 550
CCWIS Self-Assessment—Intake | 55 | 1 | 10 | 550
CCWIS Self-Assessment—Investigation | 55 | 1 | 10 | 550
CCWIS Self-Assessment: Child Welfare Contributing Agency (CWCA) | 55 | 1 | 10 | 550
CCWIS Self-Assessment: Data Exchanges | 55 | 1 | 10 | 550
CCWIS Self-Assessment: Data Quality | 55 | 1 | 10 | 550
CCWIS Self-Assessment: Design Requirements | 55 | 1 | 24 | 1,320
CCWIS Self-Assessment: Financial | 55 | 1 | 10 | 550
CCWIS Self-Assessment: Reporting | 55 | 1 | 10 | 550
CCWIS Self-Assessment: Security | 55 | 1 | 10 | 550
CCWIS Self-Assessment: Title IV-E Foster Care Maintenance Eligibility | 55 | 1 | 10 | 550
CCWIS Self-Assessment: User Experience | 55 | 1 | 10 | 550
Total Annual Burden for Currently Approved Generics: |  |  |  | 9,020

Annual Burden—Potential Additional Information Collection Requests
Instrument | Total number of respondents | Annual number of responses per respondent | Average burden hours per response | Annual burden hours
Future Tools to be developed | 55 | 5 | 10 | 2,750

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 5 U.S.C. 301; 42 U.S.C. 470, 620 et seq., 622(b), 629b(a), 652(b), 654A, 670 et seq., 671(a), 1302, and 1396a(a).

Mary C. Jones,
ACF/OPRE Certifying Officer.

[FR Doc. 2024-04264 Filed 2-28-24; 8:45 am]

BILLING CODE 4184-25-P